DEPARTMENT OF HOUSING AND URBAN DEVELOPMENT

[Docket No. FR-7070-N-64]

30-Day Notice of Proposed Information Collection: Ginnie Mae Multiclass Securities Program Documents, OMB Control No.: 2503-0030

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 1, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; phone number 202-402-5535 or email: PaperworkReductionActOffice@hud.gov. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on May 4, 2023 at 88 FR 28598.

A. Overview of Information Collection

Title of Information Collection: Ginnie Mae Multiclass Securities Program.

OMB Approval Number: 2503-0030.

Type of Request: Revision of a currently approved collection.

Form Number: N/A.

Description of the need for the information and proposed use: The Ginnie Mae Multiclass Securities program consists of Ginnie Mae Real Estate Mortgage Investment Conduit (“REMIC”) and Platinum. The Multiclass Securities program provides an important adjunct to Ginnie Mae's secondary mortgage market activities, allowing the private sector to combine and restructure cash flows from Ginnie Mae MBS into securities that meet unique investor requirements in connection with yield, maturity, and call-option protection. The Multiclass Securities program intends to increase liquidity in the secondary mortgage market and to attract new sources of capital for federally insured or guaranteed residential loans. Under this program, Ginnie Mae guarantees, with the full faith and credit of the United States, the timely payment of principal and interest on Ginnie Mae REMIC and Platinum. Ginnie Mae's powers are prescribed by Title III of the National Housing Act, as amended, 12 U.S.C. 1716, et seq.

Respondents: Public.

Information collection | Number of respondents | Frequency of response | Responses per annum | Burden hour per response | Annual burden hours | Hourly cost per response | Annual cost
A | B | C | D | E | F | G | H
Pricing Letter | 25 | 10 | 250 | 0.5 | 125 | $45.56 | $5,695.00
Structured Term Sheet | 25 | 10 | 250 | 3 | 750 | 45.56 | 34,170.00
Trust (REMIC) Agreement | 25 | 10 | 250 | 1 | 250 | 45.56 | 11,390.00
Trust Opinion | 25 | 10 | 250 | 4 | 1000 | 45.56 | 45,560.00
MX Trust Agreement | 25 | 10 | 250 | 0.16 | 40 | 45.56 | 1,822.40
MX Trust Opinion | 25 | 10 | 250 | 4 | 1000 | 45.56 | 45,560.00
RR Certificate | 25 | 10 | 250 | 0.08 | 20 | 45.56 | 911.20
Sponsor Agreement | 25 | 10 | 250 | 0.05 | 12.5 | 45.56 | 569.50
Table of Contents | 25 | 10 | 250 | 0.33 | 82.5 | 45.56 | 3,758.70
Issuance Statement | 25 | 10 | 250 | 0.05 | 12.5 | 45.56 | 569.50
Tax Opinion | 25 | 10 | 250 | 4 | 1000 | 45.56 | 45,560.00
Transfer Affidavit | 25 | 10 | 250 | 0.08 | 20 | 45.56 | 911.20
Supplemental Statement | 25 | 0.25 | 6.25 | 1 | 6.25 | 45.56 | 284.75
Final Data Statements (attached to closing letter) | 25 | 10 | 250 | 32 | 8000 | 45.56 | 364,480.00
Accountants' Closing Letter | 25 | 10 | 250 | 8 | 2000 | 45.56 | 91,120.00
Accountants' OSC Letter | 25 | 10 | 250 | 8 | 2000 | 45.56 | 91,120.00
Structuring Data | 25 | 10 | 250 | 8 | 2000 | 45.56 | 91,120.00
Financial Statements | 25 | 10 | 250 | 1 | 250 | 45.56 | 11,390.00
Principal and Interest Factor File Specifications | 25 | 10 | 250 | 16 | 4000 | 45.56 | 182,240.00
Distribution Dates and Statement | 25 | 10 | 250 | 0.42 | 105 | 45.56 | 4,783.80
Term Sheet | 25 | 10 | 250 | 2 | 500 | 45.56 | 22,780.00
New Issue File Layout | 25 | 10 | 250 | 4 | 1000 | 45.56 | 45,560.00
Flow of Funds | 25 | 10 | 250 | 0.16 | 40 | 45.56 | 1,822.40
Trustee Receipt | 25 | 10 | 250 | 2 | 500 | 45.56 | 22,780.00
Subtotal |  |  | 5,756.25 |  | 24,713.75 |  | 1,125,958.45
Deposit Agreement | 70 | 10 | 700 | 1 | 700 | 45.56 | 31,892.00
MBS Schedule | 70 | 10 | 700 | 0.16 | 112 | 45.56 | 5,102.72
New Issue File Layout | 70 | 10 | 700 | 4 | 2,800 | 45.56 | 127,568.00
Principal and Interest Factor File Specifications | 70 | 10 | 700 | 16 | 11200 | 45.56 | 510,272.00
Subtotal |  |  | 2,800 |  | 14,812.00 |  | 674,834.72
Total Cost |  |  | 8,556.25 |  | 39,525.75 |  | 1,800,793.17

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Anna P. Guido,
Department Reports Management Office, Office of Policy Development and Research, Chief Data Officer.

[FR Doc. 2023-21587 Filed 9-29-23; 8:45 am]

BILLING CODE 4210-67-P